COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products and a service previously furnished by such agencies.

Comments Must Be Received on or Before: 4/20/2015.

ADDRESSES: Committee for Purchase From People Who Are Blind or Severely Disabled, 1401 S. Clark Street, Suite 715, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Product Name/NSN: Easy Storage Box, 14¾″ x 12″ x 9½″, White 8115-00-NSH-0338

Mandatory Purchase By: General Services Administration, New York, NY

Mandatory Source of Supply: ReadyOne Industries, Inc., El Paso, TX

Contracting Activity: General Services Administration, New York, NY

Distribution: A-List

Product Names/NSNs: Cup, Disposable, Paper, BioBased, Cold Beverage, White, 21 oz./7350-00-NIB-0209

Cup, Disposable, Paper, Cold Beverage, White, 21 oz. 7350-00-NIB-0210

Cup, Disposable, Paper, Cold Beverage, White, 32 oz. 7350-00-NIB-0215

Mandatory Purchase By: General Services Administration, Fort Worth, TX

Mandatory Source of Supply: The Lighthouse for the Blind in New Orleans, Inc., New Orleans, LA

Contracting Activity: General Services Administration, Fort Worth, TX

Distribution: A-List

Product Names/NSNs: Mandoline Slicer, Handheld/MR 338.

Shaker, Salad Dressing/MR 342

Mandatory Purchase By: Military commissaries and exchanges in accordance with the Code of Federal Regulations, Chapter 51, 51-6.4

Mandatory Source of Supply: Cincinnati Association for the Blind, Cincinnati, OH

Contracting Activity: Defense Commissary Agency, Fort Lee, VA

Distribution: C-List

Service

Service Type: Base Operations Service

Service is Mandatory for: US Army, US Army Garrison-Detroit Arsenal, 6501 East Eleven Mile Road, Warren, MI

Mandatory Source of Supply: Professional Contract Services, Inc., Austin, TX

Contracting Activity: Dept of the Army, W4GG Hq US Army TACOM Warren, MI

Deletions

The following products and service are proposed for deletion from the Procurement List:

Products

Product Name/NSN: Bag, Trash, Cloth/2090-01-478-3561

Mandatory Source of Supply: West Texas Lighthouse for the Blind, San Angelo, TX

Contracting Activity: General Services Administration, New York, NY

Product Name/NSNs: Urinal, Incontinent, 6530-01-081-5303, 6530-01-081-5304, 6530-01-451-8065, 6530-01-451-8066, 6530-01-451-8068, 6530-01-451-8069, 6530-01-451-8070, 6530-01-451-8071, 6530-01-451-8072, 6530-01-451-8073

Mandatory Source of Supply: The Lighthouse for the Blind, St. Louis, MO

Contracting Activity: Department of Veterans Affairs, NAC, Hines, IL

Product Name/NSN: Cleaning Compound, 7930-01-398-0942

Mandatory Source of Supply: The Lighthouse for the Blind, St. Louis, MO

Contracting Activity: General Services Administration, Fort Worth, TX

Product Name/NSN: Stapler, Spring-powered, Pliers Style, 7520-01-598-4239

Mandatory Source of Supply: Winston-Salem Industries for the Blind, Inc., Winston-Salem, NC

Contracting Activity: General Services Administration, New York, NY

Product Name/NSNs: Ballpoint Pen, Round, Stick Type, “Alpha Basic”, 7520-01-557-3166—Red Ink, 7520-01-557-3163—Red Ink w/Grip

Mandatory Source of Supply: Alphapointe, Kansas City, MO

Contracting Activity: General Services Administration, New York, NY

Product Name/NSN: Highlighter Set, Dry Transfer/7520-01-504-8939

Mandatory Source of Supply: Industries for the Blind, Inc., West Allis, WI

Contracting Activity: General Services Administration, New York, NY

Service

Service Type: Laundry Service

Service is Mandatory for: U.S. Naval Hospital & Naval Dental Clinic Base, Farenholt Road, Agana Heights, GU

Mandatory Source of Supply: ICAN Resources, Inc., Dededo, GU

Contracting Activity: Dept of the Navy, NAVSUP FLT LOG CTR, Pearl Harbor, HI

Barry S. Lineback,
Director, Business Operations.

[FR Doc. 2015-06416 Filed 3-19-15; 8:45 am]

BILLING CODE 6353-01-P